DEPARTMENT OF HEALTH AND HUMAN SERVICES

Administration for Children and Families

Administration on Children, Youth and Families; Award Announcement

AGENCY: Administration on Children, Youth and Families.

ACTION: Award announcement.

SUMMARY: The Administration on Children, Youth and Families, Child Care Bureau, herein announces an urgent grant award to the South Plains Community Action Association, Inc. (fiscal agent) on behalf of the South Plains Early Childhood Council (Local Council and Grantee), Levelland, Texas, in the amount of $99,999 for a project period of 12 months. This urgent grant award will assist the Local Council in the emergency provision of child care and early learning opportunities to young children and their families who have been evacuated from Mississippi, Louisiana, and other parts of Texas due to Hurricane Katrina. This service area includes 13,575 square miles of the following counties: Bailey, Cochran, Crosby, Dickens, Floyd, Garza, Hale, Hockley, King, Lamb, Lubbock, Lynn, Motley, Terry, and Yoakum.

The South Plains Early Childhood Council is well-situated geographically to provide the needed emergency services, and is well-equipped in terms of program activities and cooperating agencies to add immediately and significantly to the child care and related service needs of the evacuee families. The Council is unique in that it serves such a large multi-county rural area that is receiving evacuees and because it has the existing organizational capacity to take the services directly to the rural communities using the FROG bus [Fun Reading on the Go]. This is especially important since the majority of evacuees have no personal form of transportation and public transportation is limited in this rural area.

This emergency grant award will provide early learning opportunities, early literacy activities, and mental health support to children under the age of five years, their parents/guardians, caregivers, and child care providers. Young children currently residing in shelters will be given age- and culturally-appropriate books and will receive supplemental supportive educational and social activities from staff trained in early childhood. Young children and their parents/guardians will also be provided with mental health supports by appropriately trained staff to support the children's social and emotional development, and to promote effective parenting.

FOR FURTHER INFORMATION CONTACT: Carol Gage, ELOA Project Officer, at (202) 690-6243.

SUPPLEMENTARY INFORMATION: This award will be made pursuant to Pub. L. 106-554, Early Learning Opportunities Act.

Dated: September 27, 2005.
Joan E. Ohl,
Commissioner, Administration on Children, Youth and Families.

[FR Doc. 05-19911 Filed 10-4-05; 8:45 am]

BILLING CODE 4184-01-P